DEPARTMENT OF ENERGY

Federal Energy Regulatory Commission

Combined Notice Of Filings #1

June 16, 2005.

Take notice that the Commission received the following electric rate filings:

Docket Numbers: ER02-388-004.

Applicants: HC Power Marketing LLC.

Description: HC Power Marketing LLC submits First Revised Sheet 3 to its Rate Schedule FERC 1, which incorporates the reporting requirement for changes in status for public utilities with market-based rates set forth in Commission Order No. 652 .

Filed Date: June 14, 2005.

Accession Number: 20050616-0113.

Comment Date: 5 p.m. Eastern Time on Tuesday, July 5, 2005.

Docket Numbers: ER04-691-030.

Applicants: Midwest Independent Transmission System Operator, Inc.

Description: Potomac Economics, Ltd., as the Independent Market Monitor for the Midwest Independent Transmission System Operator, Inc., provides a list of generators subject to Narrow Constrained Area thresholds.

Filed Date: June 13, 2005.

Accession Number: 20050615-0001.

Comment Date: 5 p.m. Eastern Time on Tuesday, July 5, 2005.

Docket Numbers: ER04-691-046; EL04-104-044

Applicants: Midwest Independent Transmission System Operator, Inc.

Description: Midwest Independent Transmission System Operator, Inc submits proposed revisions to its Open Access Transmission and Energy Markets Tariff in compliance with FERC's Order issued on 4/15/05, 111 FERC ¶ 61,043 (2005)

Filed Date: June 14, 2005.

Accession Number: 20050616-0005.

Comment Date: 5 p.m. Eastern Time on Tuesday, July 5, 2005.

Docket Numbers: ER04-691-047; EL04-104-045

Applicants: Midwest Independent Transmission System Operator, Inc.

Description: Midwest Independent Transmission System Operator Inc submits proposed revisions to its Open Access Transmission and Energy Markets Tariff, FERC Electric Tariff, Third Revised Volume 1, in compliance with FERC's Order issued 4/15/05, 111 ¶ FERC 61,043 (2005).

Filed Date: June 14, 2005.

Accession Number: 20050616-0111.

Comment Date: 5 p.m. Eastern Time on Tuesday, July 5, 2005.

Docket Numbers: ER05-1023-001.

Applicants: TransAlta Centralia Generation L.L.C.

Description: TransAlta Centralia Generation LLC submits its Rate Schedule FERC No. 2 for reactive supply and voltage control from generation sources services for compensation for the reactive service that it provides to Bonneville Power Administration from its Big Hannaford generating plant to correct errors in its original filing of 5/26/2005

Filed Date: June 14, 2005.

Accession Number: 20050616-0112.

Comment Date: 5:00 p.m. Eastern Time on Tuesday, July 5, 2005.

Docket Numbers: ER05-1061-001.

Applicants: PJM Interconnection, L.L.C.

Description: PJM Interconnection, L.L.C. submits Third Revised Sheet 339 to its FERC Electric Tariff, Sixth Revised Volume 1, amending its 6/1/2005in ER05-1061-000.

Filed Date: June 13, 2005.

Accession Number: 20050614-0195.

Comment Date: 5 p.m. Eastern Time on Tuesday, July 5, 2005.

Docket Numbers: ER05-1108-000.

Applicants: San Diego Gas & Electric Company.

Description: San Diego Gas & Electric Company submits a notice of cancellation of the Interconnection Agreement with Ramco Generating One (Service Agreement No. 22 under its FERC Electric Tariff, Second Revised Volume 11).

Filed Date: June 13, 2005.

Accession Number: 20050615-0011.

Comment Date: 5 p.m. Eastern Time on Tuesday, July 5, 2005.

Docket Numbers: ER05-1109-000.

Applicants: Power Development Company, LLC.

Description: Power Development Company LLC submits a notice of cancellation of its market based rate electric tariff, Rate Schedule FERC No. 1.

Filed Date: June 13, 2005.

Accession Number: 20050615-0010.

Comment Date: 5 pm Eastern Time on Tuesday, July 05, 2005.

Docket Numbers: ER05-1110-000.

Applicants: Astoria Energy LLC.

Description: Astoria Energy, LLC submits a limited modification to one provision of their market-based rate schedule.

Filed Date: June 13, 2005.

Accession Number: 20050615-0008.

Comment Date: 5 p.m. Eastern Time on Tuesday, July 5, 2005.

Docket Numbers: ER05-1111-000.

Applicants: Midwest Independent Transmission System Operator, Inc.

Description: Midwest Independent Transmission System Operator, Inc. submits an Interconnection and Operating Agreement as Service Agreement No. 1577 under its FERC Electric Tariff, Third Revised Vol. No. 1, among DAJAW Transmission, LLC, Midwest Independent Transmission System Operator, Inc. and Northern States Power Company d/b/a Xcel Energy.

Filed Date: June 13, 2005.

Accession Number: 20050615-0007.

Comment Date: 5 p.m. Eastern Time on Tuesday, July 5, 2005.

Docket Numbers: ER05-1112-000.

Applicants: Midwest Independent Transmission System Operator, Inc.

Description: Midwest Independent Transmission System Operator, Inc. submits an Interconnection and Operating Agreement as Service Agreement No. 1576 under its FERC Electric Tariff, Third Revised Vol. No. 1 among DAJAW Transmission, LLC; Midwest Independent Transmission System Operator, Inc.; and Northern States Power Company d/b/a Xcel Energy.

Filed Date: June 13, 2005.

Accession Number: 20050615-0006.

Comment Date: 5 p.m. Eastern Time on Tuesday, July 5, 2005.

Docket Numbers: ER05-1113-000.

Applicants: Southern California Edison Company.

Description: Southern California Edison Company submits a revised rate sheet to the Amended and Restated Mandalay Generating Station Radial Lines Agreement with Reliant Energy Mandalay, Inc.

Filed Date: June 14, 2005.

Accession Number: 20050616-0110.

Comment Date: 5 p.m. Eastern Time on Tuesday, July 5, 2005.

Docket Numbers: ER05-744-001.

Applicants: Major Lending, LLC.

Description: Major Lending, LLC submits a revised market-based rate tariff to include additional reporting provision in compliance with the FERC's 5/11/05 Order.

Filed Date: June 13, 2005.

Accession Number: 20050614-0196.

Comment Date: 5 p.m. Eastern Time on Tuesday, July 5, 2005.

Docket Numbers: ER05-996-001.

Applicants: NJR Energy Services Company.

Description: NJR Energy Services Company submits an amendment to its notice of cancellation filed on 5/20/05 under ER05-996.

Filed Date: June 14, 2005.

Accession Number: 20050616-0004.

Comment Date: 5 p.m. Eastern Time on Tuesday, June 23, 2005.

Docket Numbers: ER95-581-021.

Applicants: Tennessee Power Company.

Description: Tennessee Power Company's response to Order Announcing Policy on Non-compliance with Conditions of KMarket-based Rate Authority, Instituting Section 206 Proceeding and Establishing Refund Effective Date issued 5/31/2005 in Docket No. ER98-3809-000, et al., 111 FERC ¶ 61,295

Filed Date: June 13, 2005.

Accession Number: 20050616-0101.

Comment Date: 5 p.m. Eastern Time on Tuesday, July 5, 2005.

Docket Numbers: ER98-855-008.

Applicants: Wisconsin Electric Power Company.

Description: Wisconsin Electric Power Company submits Report of Change in Status.

Filed Date: June 13, 2005.

Accession Number: 20050613-5014.

Comment Date: 5 p.m. Eastern Time on Tuesday, July 5, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3221 Filed 6-21-05; 8:45 am]

BILLING CODE 6717-01-P